DEPARTMENT OF EDUCATION

Office of Postsecondary Education

Developing Hispanic-Serving Institution (HSI) Program

ACTION: Correction; notice reopening application deadline for certain applicants.

SUMMARY: We correct the postmark date listed in the Transmittal of Applications section of the notice published on December 16, 2003 (68 FR 70008).

SUPPLEMENTARY INFORMATION: On December 16, 2003, we published a notice in the Federal Register reopening the application deadline for certain applicants under the HSI Program. The postmark date listed in the Transmittal of Applications section of the notice published was incorrect. The last sentence under Transmittal of Applications should read, “Your submittals must be postmarked no later than December 29, 2003.”

FOR FURTHER INFORMATION CONTACT: Ms. Darlene B. Collins, U.S. Department of Education, 1990 K Street, NW., 6th Floor, Washington, DC 20006-8513. Telephone: (202) 502-7576 or via Internet: Darlene.Collins@ed.gov.

If you use a telecommunications device for the deaf (TDD), you may call the Federal Information Relay Service (FIRS) at 1-800-877-8339.

Individuals with disabilities may obtain this document in an alternative format, (e.g. Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1001-1101d, 1103-1103g.

Dated: December 17, 2003.
Sally L. Stroup,
Assistant Secretary, Office of Postsecondary Education.

[FR Doc. 03-31405 Filed 12-17-03; 1:28 pm]

BILLING CODE 4000-01-P